ENVIRONMENTAL PROTECTION AGENCY

40 CFR Parts 51 and 52

[EPA-R08-OAR-2021-0267; FRL-10024-00-Region 8]

Clean Air Act New Source Review Operating Permit Program; Notice of Transfer of Permits to Wyoming Department of Environmental Quality

AGENCY: Environmental Protection Agency (EPA).

ACTION: Proposed rule.

SUMMARY: The EPA is proposing to grant Wyoming Department of Environmental Quality's (WDEQ) August 21, 2020 request to transfer to the State administrative authority over two federal permits that were issued by the EPA on June 26, 1973 under the federal new source review (NSR) permitting program. In addition, the EPA is proposing to agree with WDEQ's analysis in its August 21, 2020 letter demonstrating that the current Wyoming regulations still meet the requirements of the federal NSR permitting program. This action is proposing to transfer the 1973 federally issued permits to Wyoming. The EPA is proposing this action in accordance with the Clean Air Act and the Code of Federal Regulations NSR program requirements.

DATES: Written comments must be received on or before June 28, 2021.

ADDRESSES: Submit your comments, identified by Docket ID No. EPA-R08-OAR-2021-0267, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Donald Law, Air and Radiation Division (8ARD-PM), EPA, Region 8, Mailcode 8ARD-PM, 1595 Wynkoop Street, Denver, Colorado 80202-1129, (303) 312-7015, law.donald@epa.gov.

SUPPLEMENTARY INFORMATION: Throughout this document “we,” “us,” and “our” means the EPA.

Proposed action: In the “Rules and Regulations” section of this Federal Register, the EPA is publishing a direct final rule without prior proposal of the EPA's intent to grant WDEQ's August 21, 2020 request to transfer to the State administrative authority over two existing EPA issued permits that were issued by the EPA on June 26, 1973 under the now superseded federal NSR permitting program for Wyoming. The EPA views this as a noncontroversial action and we do not expect adverse comments. A detailed rationale for the action is set forth in the preamble to the direct final rule. If the EPA receives no adverse comments, the EPA contemplates no further action. If the EPA receives adverse comments, the EPA will withdraw the direct final rule and will address all public comments in a subsequent final rule based on this proposed rule. The EPA will not institute a second comment period on this action. Any parties interested in commenting must do so at this time. For additional information, see the direct final rule of the same title which is located in the “Rules and Regulations” section of this Federal Register.

List of Subjects

40 CFR Part 51

Environmental protection, Administrative practice and procedure, Air pollution control, Carbon monoxide, Intergovernmental relations, Lead, Nitrogen dioxide, Nitrogen oxides, Opacity, Ozone, Reporting and recordkeeping requirements, Sulfur dioxide, Sulfur oxides, Transportation, Volatile organic compounds.

40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: May 20, 2021.
Debra H. Thomas,
Acting Regional Administrator, Region 8.

[FR Doc. 2021-11191 Filed 5-27-21; 8:45 am]

BILLING CODE 6560-50-P